DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before October 10, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on September 11, 2023.
Donald P. Burger,
Chief, General Approvals and Permits Branch.

Application No. | Applicant | Regulation(s) affected | Nature of the special permits thereof
Special Permits Data
12116-M | Proserv UK Ltd | 173.201, 173.301(f), 173.302a, 173.304a | To modify the special permit to authorize an additional cylinder. (modes 1, 2, 3, 4).
20351-M | Roeder Cartage Company, Incorporated | 180.407(c), 180.407(e), 180.407(f) | To modify the special permit to remove certain cargo tank serial numbers. (mode 1).
20567-M | Omni Tanker Pty. Ltd | 107.503(b), 107.503(c), 172.102(c)(3), 173.241, 173.242, 173.243, 178.345-1, 178.347-1, 178.348-1 | To modify the special permit to authorize additional drawings and packaging specifications. (mode 1).
20907-M | Versum Materials US, LLC | 171.23(a)(1), 171.23(a)(3) | To modify the special permit to authorize a cylinder in transportation or a cylinder filled prior to the expiration of the authorized service life to be transported to be emptied. (modes 1, 3).
21195-M | Panasonic Energy Corporation of America | 173.185(c) | To modify the special permit to authorize an additional lithium metal cell, to update the cell testing requirements, and to authorize an additional location. (mode 1).
21222-M | Bren-Tronics, Inc | 172.101(j), 173.185(b)(1) | To modify the special permit to reflect changes to cell and battery designs. (mode 4).
21300-M | Distributor Operations, Inc. | 172.200, 172.300, 172.400, 173.159(e) | To modify the special permit to remove the requirement to label compartments containing lithium batteries. (mode 1).
21139-M | KULR Technology Corporation | 172.600, 172.200, 172.300, 172.700(a), 172.400, 172.500, 173.185(b) | To modify the special permit to authorize an alternative shipping document, to remove the reference to ferry vessel operations, and to clarify the requirement in paragraph 7.b.(2). (modes 1, 2).

[FR Doc. 2023-20730 Filed 9-22-23; 8:45 am]

BILLING CODE P